DEPARTMENT OF LABOR

Occupational Safety and Health Administration

Federal Advisory Council on Occupational Safety and Health; Notice of Meeting

Notice is hereby given of the date and location of the next meeting of the Federal Advisory Council on Occupational Safety and Health (FACOSH), established under Section 1-5 of Executive Order 12196 on February 6, 1980, published in the Federal Register, February 27, 1980 (45 FR 1279). FACOSH will meet on July 17, 2003, starting at 1:30 p.m., in Room N-3437 A/B/C of the Department of Labor's Frances Perkins Building, 200 Constitution Avenue, NW., Washington, DC 20210. The meeting will adjourn at approximately 4 p.m., and will be open to the public. All persons wishing to attend this meeting must exhibit photo identification to security personnel.

Agenda items will include:

1. Call to Order

2. Updates on

a. Federal Executive Initiative

b. Federal Recordkeeping Change

c. SHARE Initiative

d. Federal Safety and Health Council Awards Ceremony and Training Conference

e. Young Worker Safety and Health Meeting

3. Emergency Response Coordination Development

4. New business

5. Adjournment

Written data, views, or comments may be submitted, preferably with 20 copies, to the Office of Federal Agency Programs at the address provided below. All such submissions, received by July 10, 2003, will be provided to the Federal Advisory Council members and will be included in the record of the meeting. Anyone wishing to make an oral presentation should notify the Office of Federal Agency Programs by the close of business July 10, 2003. The request should state the amount of time desired, the capacity in which the person will appear, and a brief outline of the content of the presentation. Persons who request the opportunity to address the Federal Advisory Council may be allowed to speak, as time permits, at the discretion of the Chairperson. Individuals with disabilities who wish to attend the meeting should contact Tom Marple at the address indicated below, if special accommodations are needed.

For additional information, please contact Thomas K. Marple, Director, Office of Federal Agency Programs, U.S. Department of Labor, Occupational Safety and Health Administration, Room N-3622, 200 Constitution Avenue, NW., Washington, DC 20210, telephone number (202) 693-2122. An official record of the meeting will be available for public inspection at the Office of Federal Agency Programs.

Signed at Washington, DC, this 25th day of June 2003.
John L. Henshaw,
Assistant Secretary of Labor for Occupational Safety and Health.

[FR Doc. 03-16547 Filed 6-30-03; 8:45 am]

BILLING CODE 4510-26-M